ENVIRONMENTAL PROTECTION AGENCY

40 CFR Part 271

[EPA-R05-RCRA-2010-0738; FRL-9253-1]

Minnesota: Final Authorization of State Hazardous Waste Management Program Revision

AGENCY: Environmental Protection Agency (EPA).

ACTION: Proposed rule.

SUMMARY: Minnesota has applied to EPA for final authorization of the changes to its hazardous waste program under the Resource Conservation and Recovery Act (RCRA). EPA has reviewed Minnesota's application with regards to Federal requirements, and is proposing to authorize the State's changes.

DATES: Comments on this proposed rule must be received on or before February 14, 2011.

ADDRESSES: Submit your comments, identified by Docket ID No. EPA-R05-RCRA-2010-0738 by one of the following methods:

http://www.regulations.gov: Follow the on-line instructions for submitting comments.

E-mail: westefer.gary@epa.gov.

Mail: Gary Westefer, Minnesota Regulatory Specialist, LR-8J, U.S. EPA, Region 5, 77 West Jackson Boulevard, Chicago, Illinois 60604.

Instructions: Direct your comments to Docket ID Number EPA-R05-RCRA-2010-0738. EPA's policy is that all comments received will be included in the public docket without change and may be made available online at http://www.regulations.gov, including any personal information provided, unless the comment includes information claimed to be Confidential Business Information (CBI) or other information whose disclosure is restricted by statute. Do not submit information that you consider to be CBI or otherwise protected through http://www.regulations.gov or e-mail. The http://www.regulations.gov Web site is an “anonymous access” system, which means EPA will not know your identity or contact information unless you provide it in the body of your comment. If you send an e-mail comment directly to EPA without going through http://www.regulations.gov your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters or any form of encryption, and be free of any defects or viruses. For additional information about EPA's public docket, visit the EPA Docket Center homepage at http://www.epagov/epahome/dockets.htm.

Docket: All documents in the docket are listed in the http://www.regulations.gov index. Although listed in the index, some of the information is not publicly available, e.g., CBI or other information for which disclosure is restricted by statute. Certain other material, such as copyrighted material, will be publicly available only in hard copy. Publicly available docket materials are available either electronically in http://www.regulations.gov or in hard copy. You may view and copy Minnesota's application from 9 a.m. to 4 p.m. at the following addresses: U.S. EPA Region 5, LR-8J, 77 West Jackson Boulevard, Chicago, Illinois, contact: Gary Westefer (312) 886-7450; or Minnesota Pollution Control Agency, 520 Lafayette Road, North, St. Paul, Minnesota 55515, contact: Nathan Cooley (651) 757-2290.

FOR FURTHER INFORMATION CONTACT: Gary Westefer, Minnesota Regulatory Specialist, U.S. EPA Region 5, LR-8J, 77 West Jackson Boulevard, Chicago, Illinois 60604, (312) 886-7450, e-mail westefer.gary@epa.gov.

SUPPLEMENTARY INFORMATION:

A. Why are revisions to State programs necessary?

States which have received final authorization from EPA under RCRA section 3006(b), 42 U.S.C. 6926(b), must maintain a hazardous waste program that is equivalent to, consistent with, and no less stringent than the Federal program. As the Federal program changes, States must change their programs and request EPA to authorize the changes. Changes to State programs may be necessary when Federal or State statutory or regulatory authority is modified or when certain other changes occur. Most commonly, States must change their programs because of changes to EPA's regulations in 40 Code of Federal Regulations (CFR) parts 124, 260 through 266, 268, 270, 273 and 279.

B. What decisions have we made in this rule?

We conclude that Minnesota's application to revise its authorized program meets all of the statutory and regulatory requirements established by RCRA. Therefore, we propose to grant Minnesota final authorization to operate its hazardous waste program with the changes described in the authorization application. Minnesota has responsibility for permitting treatment, storage, and disposal facilities (TSDFs) within its borders (except in Indian Country) and for carrying out the aspects of the RCRA program described in its revised program application, subject to the limitations of the Hazardous and Solid Waste Amendments of 1984 (HSWA). New Federal requirements and prohibitions imposed by Federal regulations that EPA promulgates under the authority of HSWA take effect in authorized States before they are authorized for the requirements. Thus, EPA will implement those requirements and prohibitions in Minnesota, including issuing permits, until the State is granted authorization to do so.

C. What is the effect of this authorization decision?

The effect of this decision, once finalized, is that a facility in Minnesota subject to RCRA would have to comply with the authorized State requirements instead of the equivalent Federal requirements in order to comply with RCRA. Minnesota has enforcement responsibilities under its State hazardous waste program for RCRA violations, but EPA retains its authority under RCRA sections 3007, 3008, 3013, and 7003, which include, among others, authority to:

1. Do inspections, and require monitoring, tests, analyses or reports; and

1. Enforce RCRA requirements and suspend or revoke permits.

This action will not impose additional requirements on the regulated community because the regulations for which Minnesota is being authorized are already effective, and will not be changed by EPA's final action.

D. What happens if EPA receives adverse comments on this action?

If EPA receives adverse comments on this authorization, we will address all public comments in a later Federal Register. You may not have another opportunity to comment. If you want to comment on this authorization, you must do so at this time.

E. What has Minnesota previously been authorized for?

Minnesota initially received Final (base) authorization on January 28, 1985, effective February 11, 1985 (50 FR 3756) to implement the RCRA hazardous waste management program. We granted authorization for changes to Minnesota's program on July 20, 1987, effective September 18, 1987 (52 FR 27199); on April 24, 1989, effective June 23, 1989 (54 FR 16361) amended June 28, 1989 (54 FR 27170); on June 15, 1990, effective August 14, 1990 (55 FR 24232); on June 24, 1991, effective August 23, 1991 (56 FR 28709); on March 19, 1992, effective May 18, 1992 (57 FR 9501); on March 17, 1993, effective May 17, 1993 (58 FR 14321); on January 20, 1994, effective March 21, 1994 (59 FR 2998); and on May 25, 2000, effective August 23, 2000 (65 FR 33774). Minnesota also received authorization for the U.S. Filter Recovery Services Project XL on May 22, 2001, effective May 22, 2001 (66 FR 28085), and for the Joint Powers Agreement with Hennepin County on October 23, 2008 (73 FR 63074), effective October 23, 2008.

F. What changes are we proposing with today's action?

On June 2, 2010, Minnesota submitted a final complete program revision application, seeking authorization of their changes in accordance with 40 CFR 271.21. We are now proposing to authorize, subject to receipt of written comments that oppose this action, Minnesota's hazardous waste program revision. We propose to grant Minnesota final authorization for the following program changes:

Minnesota's Analogs to the Federal Requirements
Description of Federal requirement (include checklist No., if relevant) | Federal Register date and page (and/or RCRA statutory authority) | Analogous State authority
Land Disposal Restrictions for Electric Arc Furnace Dust (K061) Checklist 95 | August 19, 1991, 56 FR 41164 | MR 7045.0125,4,K; 7045.0214,3,E; 7045.1390; Effective June 22, 2009.
Liners and Leak Detection Systems for Hazardous Waste Land Disposal Units Checklist 100 | January 29, 1992, 57 FR 3462 | MR 7001.0150; 7001.0590; 7001.0600; 7001.0620; 7001.0720; MR 7045.0219; 7045.0220; 7045.0452; 7045.0461; 7045.0478; 7045.0532(3),(4),(5),(7); 7045.0534; 7045.0534(4),(5),(6); 7045.0538; 7045.0538(4),(5); 7045.0556; 7045.0556(8); 7045.0584; 7045.0630; 7045.0630(5),(6); 7045.0632; 7045.0632(4),(8),(9); 7045.0638; 7045.0638(2); Effective June 22, 2009.
Hazardous Waste Management System; Identification and Listing of Hazardous Waste; Toxicity Characteristic; Corrections Checklist 108 | July 10, 1992, 57 FR 30657 | MR 7045.0075; 7045.0100; 7045.0102; 7045.0120; 7045.0121; 7045.0638; Effective June 22, 2009.
Land Disposal Restrictions for Newly Listed Wastes and Hazardous Debris Checklist 109 | August 18, 1992, 57 FR 37194 | MR 7001.0550(K); 7001.0560(B); 7001.0650(5)(F)(6); MR 7045.0219; 7045.0214(3)(E),(F),(G); 7045.0292(1)(B); 7045.0490(1)(D); 7045.0486(2),(3); 7045.0498(1)(D); 7045.0502(1); 7045.0551; 7045.0594(1); 7045.0600(1),(2); 7045.0608(1); 7045.0610(1); 7045.0630(2); 7045.0651; 7045.1390; Effective June 22, 2009.
Identification and Listing of Hazardous Waste; CERCLA Hazardous Designation; Reportable Quantity Adjustment; Coke By-Product Wastes Checklist 110 | August 18, 1992, 57 FR 37284 | MR 7045.0125(4)(F); 7045.0135(1a),(C),(M); Effective June 22, 2009.
Consolidated Liability Requirements:
Financial Responsibility for Third Party Liability, Closure and Post-Closure Checklist 113 | September 16, 1992, 57 FR 42832 | MR 7045.0504(7)(L),(M); 7045.0518; 7045.0524; 7045.0608(2); 7045.0614; 7045.0620; Effective June 22, 2009.
Standards Applicable to Owners and Operators of Hazardous Waste Treatment, Storage, and Disposal Facilities; Liability Coverage Checklist 113.1 | September 1, 1988, 53 FR 33938
Liability Requirements; Technical Amendment Checklist 113.2 | July 1, 1991, 56 FR 30200
Hazardous Waste Management System; Identification and Listing of Hazardous Waste and CERCLA Hazardous Designation; Reportable Quantity Adjustment; Chlorinated Toluenes Production Wastes Checklist 115 | October 15, 1992, 57 FR 47376 | MR 7045.0135(1a)(C),(M); Effective June 22, 2009.
Hazardous Waste Management System; Land Disposal Restrictions; Case-By-Case Capacity Variance Checklist 116 | October 20, 1992, 57 FR 47772 | MR 7045.1390; Effective June 22, 2009.
Hazardous Waste Management System; Definition of Hazardous Waste; Mixture and Derived-From Rules Checklist 117B | June 1, 1992, 57 FR 23062 | MR 7045.0102(2); Effective June 22, 2009.
Hazardous Waste Management; Liquids in Landfills II Checklist 118 | November 18, 1992, 57 FR 54452 | MR 7045.0020(84a); 7045.0458(2)(G)(3); 7045.0538(10),(12); 7045.0564(2)(G)(3); 7045.0638(7),(9); Effective June 22, 2009.
Corrective Action Management Units and Temporary Units; Corrective Action Units Under Subtitle C Checklist 121 | February 16, 1993, 58 FR 8658 | MR 7001.0510; 7001.0720; 7045.0020; 7045.0219; 7045.0220; 7045.0485; 7045.0545; 7045.0552; Effective October 2, 1995.
Land Disposal Restrictions; Renewal of the Hazardous Waste Debris Case-By-Case Capacity Variance Checklist 123 | May 14, 1993, 58 FR 28506 | MR 7045.1390; Effective June 22, 2009.
Land Disposal Restrictions for Ignitable and Corrosive Characteristic Wastes Whose Treatment Standards Were Vacated Checklist 124 | May 24, 1993, 58 FR 29860 | MR 7045.0450(3)(E); 7045.0552(3)(F); 7045.1390; Effective June 22, 2009.
Hazardous Waste Management System; Testing and Monitoring Activities Checklist 126 as amended | August 31, 1993, 58 FR 46040 | MR 7001.0510; 7045.0630(C); 7001.0700(3)(A)(3-5); MR 7045.0065(1); 7045.0075(2)(E)(1)(a); 7045.0131(4)(A),(B); 7045.0131(7)(A); 7045.0135(1); 7045.0528(1)(A); 7045.0538(10)(C); 7045.0628(1)(A); 7045.0638(7)(B); 7045.1390; Effective June 22, 2009.
Checklist 126.1 | September 19, 1994, 59 FR 47980
Hazardous Waste Management System; Identification and Listing of Hazardous Waste; Wastes From Wood Surface Protection Checklist 128 | January 4, 1994, 59 FR 458 | MR 7045.0065; 7045.0135(1a)(N); Effective June 22, 2009.
Recordkeeping Instructions; Technical Amendment Checklist 131 | March 24, 1994, 59 FR 13891 | MR 7045.0543(1)(A); 7045.0643(1)(A); 7045.0645(1)(A); Effective June 22, 2009.
Hazardous Waste Management System; Identification and Listing of Hazardous Waste; Wastes from Wood Surface Protection; Correction Checklist 132 | June 2, 1994, 59 FR 28484 | MR 7045.0065(1); Effective June 22, 2009.
Hazardous Waste Management System; Correction of Listing of P015—Beryllium Powder Checklist 134 | June 20, 1994, 59 FR 31551 | MR 7045.0135(1a)(D),(N); 7045.1390; Effective June 22, 2009.
Standards for the Management of Specific Hazardous Wastes; Amendment to Subpart C—Recyclable Materials Used in a Manner Constituting Disposal; Final Rule Checklist 136 | August 24, 1994, 59 FR 43496 | MR 7045.0665(1)(B); 7045.1390; Effective June 22, 2009.
Land Disposal Restrictions Phase II—Universal Treatment Standards, and Treatment Standards for Organic Toxicity Characteristic Wastes and Newly Listed Wastes | September 19, 1994, 59 FR 47982 | MR 7045.0075(3),(4) MR7045.0450(3)(E); 7045.0552(3)(F); 7045.0665(4)(B); 7045.1390 Minnesota Stat. 116.06(11) 3745-266-106; 3745-266-107; Effective June 22, 2009.
Checklist 137 as amended | January 3, 1995, 60 FR 242
Checklist 137.1
Universal Waste Rule: General Provisions Checklist 142A | May 11, 1995, 60 FR 25492 | MR 7001.0520(2)(N); MR 7045.0020; 7045.0120(2)(E); 7045.0206(5)(G); 7045.0208(1)(G); 7045.0214(1); 7045.0450(3)(L); 7045.1400; Effective July 25, 2005.
Universal Waste Rule: Specific Provisions for Batteries Checklist 142B | May 11, 1995, 60 FR 25492 | MR 7045.0685(1); 7045.1400; Effective July 25, 2005.
Universal Waste Rule: Specific Provisions for Pesticides Checklist 142C | May 11, 1995, 60 FR 25492 | MR 7045.1400; Effective July 25, 2005.
Universal Waste Rule: Specific Provisions for Thermostats Checklist 142D | May 11, 1995, 60 FR 25492 | MR 7045.1400; Effective July 25, 1995.
Universal Waste Rule: Provisions for Petitions to Add a New Universal Waste Checklist 142E | May 11, 1995, 60 FR 25492 | MR 7045.1400; Effective July 25, 2005.
Land Disposal Restrictions Phase III—Decharacterized Wastewaters, Carbamate Wastes, and Spent Potliners Checklist 151 as amended | April 8, 1996, 61 FR 15566 | MR 7045.1390; Effective June 22, 2009.
Checklist 151.1 as amended | April 8, 1996, 61 FR 15566
Checklist 151.2 as amended | April 30, 1996, 61 FR 19117
Checklist 151.3 as amended | June 28, 1996, 61 FR 33680
Checklist 151.4 as amended | July 10, 1996, 61 FR 36419
Checklist 151.5 as amended | August 26, 1996, 61 FR 43924
Checklist 151.6 | February 19, 1997, 62 FR 7502
Imports and Exports of Hazardous Waste: Implementation of OECD Council Decision C(92)39 Concerning the Control of Transfrontier Movements of Wastes Destined for Recovery Operations Checklist 152 | April 12, 1996, 61 FR 16290 | MR 7045.0125; 7045.0211; 7045.0213; 7045.0302(2),(4),(6); 7045.0351; 7045.0355; 7045.0375; 7045.0452; 7045.0474; 7045.0556; 7045.0578; 7045.0675; 7045.1400; Effective June 22, 2009.
Criteria for Classification of Solid Waste Disposal Facilities and Practices; Identification and Listing of Hazardous Waste; Requirements for Authorization of State Hazardous Waste Programs Checklist 153 | July 1, 1996, 61 FR 34252 | MR 7045.0219; Effective June 22, 2009.
Hazardous Waste Treatment, Storage and Disposal Facilities and Hazardous Waste Generators; Organic Air Emissions Standards for Tanks, Surface Impoundments, and Containers Checklist 154 as amended | November 25, 1996, 61 FR 59931 | MR 7001.0150(3)(P)(3),(4); 7001.0560(E); 7001.0570(G); 7001.0580(K); 7001.0590(N); 7001.0635; MR 7045.0065(1); 7045.0125(9); 7045.0292; 7045.0452(5)(C); 7045.0458(2); 7045.0478(3); 7045.0482(4)(C); 7045.0526(10); 7045.0528(12); 7045.0532(11); 7045.0539(2); 7045.0547; 7045.0548; 7045.0549; 7045.0564(2); 7045.0556(5)(C); 7045.0584(3); 7045.0588(4)(D); 7045.0626(9); 7045.0628(13); 7045.0630(9); 7045.0647; 7045.0648;7045.0649; Effective June 22, 2009.
Checklist 154.1 as amended | December 6, 1994, 59 FR 62896
Checklist 154.2 as amended | May 19, 1995, 60 FR 26828
Checklist 154.3 as amended | September 29, 1995, 60 FR 50426
Checklist 154.4 as amended | November 13, 1995, 60 FR 56952
Checklist 154.5 as amended | February 9, 1996, 61 FR 4903
Checklist 154.6 | June 5, 1996, 61 FR 28508
Land Disposal Restrictions Phase III—Emergency Extension of the K088 Capacity Variance Checklist 155 | January 14, 1997, 62 FR 1992 | MR 7045.1390; Effective June 22, 2009.
Land Disposal Restrictions Phase IV; Treatment Standards for Wood Preserving Wastes, Paperwork Reduction and Streamlining, Exemptions From RCRA for Certain Processed Materials; and Miscellaneous Hazardous Waste Provisions Checklist 157 | May 12, 1997, 62 FR 25998 | MR 7045.0020; 7045.0120(2)(E),(F); 7045.0125(4)(C); 7045.1390; Minnesota Stat. 116.06(11); Effective June 22, 2009.
Hazardous Waste Management System; Carbamate Production, Identification and Listing of Hazardous Waste; Land Disposal Restrictions Checklist 159 | June 17, 1997, 62 FR 32974 | MR 7045.0135; 7045.1390; Effective June 22, 2009.
Land Disposal Restrictions Phase III—Emergency Extension of the K088 National Capacity Variance, Amendment Checklist 160 | July 14, 1997, 62 FR 37694 | MR 7045.1390; Effective June 22, 2009.
Second Emergency Revision of the Land Disposal Restrictions (LDR) Treatment Standards for Listed Hazardous Wastes From Carbamate Production Checklist 161 | August 28, 1997, 62 FR 45568 | MR 7045.1390; Effective June 22, 2009.
Classification of Standards for Hazardous Waste Land Disposal Restriction Treatment Variances Checklist 162 | December 5, 1997, 62 FR 64504 | MR 7045.1390; Effective June 22, 2009.
Hazardous Waste Treatment, Storage and Disposal Facilities and Hazardous Waste Generators; Organic Air Emissions Standards for Tanks, Surface Impoundments, and Containers; Clarification and Technical Amendment Checklist 163 | December 8, 1997, 62 FR 64636 | MR 7001.0560(E); MR 7045.0452(5)(C); 7045.0478(3)(H); 7045.0547; 7045.0548; 7045.0549; 7045.0556(4)(C); 7045.0584(3)(H); 7045.0643(1)(F); 7045.0647; 7045.0648; 7045.0649; Effective June 22, 2009.
Land Disposal Restrictions Phase IV; Treatment Standards for Metal Wastes and Mineral Processing Wastes Checklist 167A | May 26, 1998, 63 FR 28556 | MR 7045.1390; Effective June 22, 2009.
Land Disposal Restrictions Phase IV; Hazardous Soils Treatment Standards and Exclusions Checklist 167B | May 26, 1998, 63 FR 28556 | MR 7045.1390; Effective June 22, 2009.
Land Disposal Restrictions Phase IV; Corrections Checklist 167C as amended | May 26, 1998, 63 FR 28556 | MR 7045.1390; Effective June 22, 2009.
Checklist 167C.1 | June 8, 1998, 63 FR 31266
Minerals Processing Secondary Materials Exclusion Checklist 167D | May 26, 1998, 63 FR 28556 | MR 7045.1390; Effective June 22, 2009.
Bevill Exclusion Revisions and Clarification Checklist 167E | May 26, 1998, 63 FR 28556 | MR 7045.0102(2)(H),(I); 7045.0120(1)(I); Effective June 22, 2009.
Exclusion of Recycled Wood Preserving Wastewaters Checklist 167F | May 26, 1998, 63 FR 28556 | MR 7045.0120(1)(T); Effective June 22, 2009.
Hazardous Waste Combustors; Revised Standards; Final Rule-Part 1-RCRA Comparable Fuel Exclusion; Permit Modifications for Hazardous Waste Combustion Units; Notification of Intent to Comply; Waste Minimization and Pollution Prevention Criteria for Compliance Extensions Checklist 168 | June 19, 1998, 63 FR 33782 | MR 7001.0650(5)(F)(7); 7001.0730(6); MR 7045.0120(2)(E); Effective June 1, 2004.
Hazardous Waste Management System; Identification and Listing of Hazardous Waste; Petroleum Refining Process Wastes; Land Disposal Restrictions for Newly Identified Wastes; and CERCLA Hazardous Substance Designation and Reportable Quantities Checklist 169 | August 6, 1998, 63 FR 42110 | MR 7045.0075; 7045.0100; 7045.0102; 7045.0120; 7045.0121; 7045.0124; 7045.0125; 7045.0135(2),(3); 7045.0141; 7045.1390; Effective June 22, 2009.
Hazardous Waste Recycling; Land Disposal Restrictions Phase IV Zinc Micronutrient Fertilizers, Administrative Stay Checklist 170 | August 31, 1998, 63 FR 46332 | MR 7045.1390; Effective June 22, 2009.
Emergency Revisions of the Land Disposal Restrictions (LDR) Treatment Standards for Listed Hazardous Wastes From Carbamate Production Checklist 171 | September 4, 1998, 63 FR 47409 | MR 7045.1390; Effective June 22, 2009.
Characteristic Slags Generated From Thermal Recovery of Lead by Secondary Lead Smelters; Land Disposal Restrictions; Final Rule; Extension of Compliance Date Checklist 172 | September 9, 1998, 63 FR 48124 | MR 7045.1390; Effective June 22, 2009.
Land Disposal Restrictions (LDR) Treatment Standards for Spent Potliners from Primary Aluminum Reduction (K088) Checklist 173 | September 24, 1998, 63 FR 51254 | MR 7045.1390; Effective June 22, 2009.
Standards Applicable to Owners and Operators of Closed and Closing Hazardous Waste Management Facilities: Post-Closure Permit Requirement and Closure Process; Final rule Checklist 174 | October 22, 1998, 63 FR 56710 | MR 7001.0500; 7001.0520; 7001.0560; 7001.0640; MR 7045.0060; 7045.484(1); 7045.486; 7045.0490; 7045.0498; 7045.0590; 7045.0594; 7045.600; 7045.0602(2); 7045.0608(1); 7045.628; 7045.0630; 7045.0670(2); Effective February 14, 2005.
Hazardous Remediation Waste Management Requirements (HWIR-Media) Checklist 175 | November 30, 1998, 63 FR 65874 | MR 7001.0060; 7001.0070; 7001.0190; 7001.0510; 7001.0720; 7001.0650(7); MR 7045.0020; 7045.0075; 7045.0100; 7045.0102; 7045.0120; 7045.0121; 7045.0219; 7045.0220; 7045.0450; 7045.0478; 7045.0485; 7045.0545; 7045.0552; 7045.1390; Effective February 14, 2005.
Universal Waste Rule—Technical Amendments Checklist 176 | December 24, 1998, 63 FR 71225 | MR 7045.0685; 7045.1400; Effective July 25, 2005.
Hazardous Waste Treatment, Storage and Disposal Facilities and Hazardous Waste Generators; Organic Air Emissions Standards for Tanks, Surface Impoundments, and Containers Checklist 177 | January 21, 1999, 64 FR 3381 | MR 7045.0547; 7045.0549; 7045.0649; Effective June 22, 2009.
Land Disposal Restrictions Phase IV: Treatment Standards for Wood Preserving Wastes, Treatment Standards for Metal Wastes, Zinc Micronutrient Fertilizers, Carbamate Treatment Standards, and K088 Treatment Standards Checklist 179 | May 11, 1999, 64 FR 25408 | Minnesota Stat. 166.06(11); MR 7045.0120(1); 7045.0292(5)(G); 7045.1390; Effective June 22, 2009.
Hazardous Waste Management System; Modification of the Hazardous Waste Program; Hazardous Waste Lamps; Final Rule Checklist 181 | July 6, 1999, 64 FR 36466 | MR 7001.0500; 7001.0520; MR 7045.0219; 7045.0220; 7045.0450; 7045.0552; 7045.1300; 7045.1400; Effective July 25, 2005.
Land Disposal Restrictions Phase IV: Final Rule Promulgating Treatment Standards for Metal Wastes, and Mineral Processing Wastes; Mineral Processing Secondary Materials and Bevill Exclusion Issues; Treatment Standards for Hazardous Soils, and Exclusion of Recycled Wood Preserving Wastewaters Checklist 183 | October 20, 1999, 64 FR 56469 | MR 7045.0135(1)(C); 7045.0292(1)(G); 7045.1390; Effective June 22, 2009.
Organobromine Production Wastes; Identification and Listing of Hazardous Waste; Land Disposal Restrictions; Listing of CERCLA Hazardous Substances, Reportable Quantities Checklist 185 | March 17, 2000, 65 FR 14472 | MR 7045.0135(1); 7045.1390; Effective June 22, 2009.
Organobromine Production Wastes; Petroleum Refining Wastes; Land Disposal Restrictions; Checklist 187 | June 8, 2000, 65 FR 36365 | MR 7045.0135(1)(B); 7045.1390; Effective June 22, 2009.
Hazardous Waste Management System; Identification and Listing of Hazardous Waste; Chlorinated Aliphatics Production Wastes; and CERCLA Hazardous Substance Designation and Reportable Quantities Checklist 189 | November 8, 2000, 65 FR 67068 | MR 7045.0135(1); 7045.1390; Effective June 22, 2009.
Deferral of Phase IV Standards for PCBs as a Constituent Subject to Treatment in Soil Checklist 190 | December 26, 2000, 65 FR 81373 | MR 7045.1390; Effective June 22, 2009.
Hazardous Waste Identification Rule (HWIR); Revisions to the Mixture and Derived From Rules Checklist 192A | May 16, 2001, 66 FR 27266 | MR 7045.0102(2); 7045.0214(3)(A); Effective June 22, 2009.
Hazardous Waste Identification Rule (HWIR); Land Disposal Restrictions Correction Checklist 192B | May 16, 2001, 66 FR 27266 | MR 7045.1390; Effective June 22, 2009.
Corrections to the Hazardous Waste Identification Rule (HWIR); Revisions to the Mixture and Derived From Rules (Revision II) Checklist 194 | October 3, 2001, 66 FR 50332 | MR 7045.0102; 7045.0124; Effective June 22, 2009.
Amendments to the Corrective Action Management Unit Rule Checklist 196 | January 22, 2002, 67 FR 2962 | MR 7045.0020; 7045.0545(1)(a); 7045.0547(1); 7045.0548(1); Effective February 14, 2005.
Hazardous Waste Management System; Definition of Solid Waste; Toxicity Characteristic; Vacatur of Mineral Processing Spent Materials Being Reclaimed as Solid Wastes and TCLP Use with MGP Waste Checklist 199 | March 13, 2002, 67 FR 11251 | Minnesota Stat. 116.06(11); MR 7045.0120(1)(X); 7045.0131(7); Effective June 22, 2009.
Land Disposal Restrictions; National Treatment Variance to Designate New Treatment Subcategories for Radioactively Contaminated Cadmium-, Mercury-, and Silver-Containing Batteries Checklist 201 | October 7, 2002, 67 FR 62618 | MR 7045.1390; Effective June 22, 2009.
Hazardous Waste Management System; Identification and Listing of Hazardous Waste; Amendment to Hazardous Waste Code F019 Checklist 218 | June 4, 2008, 73 FR 31756 | MR 7045.0135; Effective June 22, 2009.

G. Which revised State rules are different from the Federal rules?

Minnesota has excluded the non-delegable Federal requirements at 40 CFR 268.5, 268.6, 268.42(b), 268.44, and 270.3. EPA will continue to implement those requirements. In this action, Minnesota has chosen to remain more stringent in the Hazardous Remediation Waste Management Requirements, (Checklist 175 above) by choosing not to adopt 40 CFR 270.79 through 270.230 which allow for Remedial Action Plans (RAP). The RAP is considered to be less stringent. Minnesota is more stringent in checklist 108, as it does not recognize the list of excluded processes, nor does it have provision to waive the double liner requirement in 40 CFR 265.301(d). In rule revision (Checklist) 118, Minnesota does not allow any liquids in landfills even as provided for in 40 CFR 264.314. In rule revision (Checklist) 142, Minnesota does not contain a provision to add a Universal Waste under 40 CFR 273.80 or 260.23.

H. Who handles permits after the authorization takes effect?

Minnesota will issue permits for all the provisions for which it is authorized and will administer the permits it issues. EPA will continue to administer any RCRA hazardous waste permits or portions of permits which we issued prior to the effective date of this authorization until they expire or are terminated. We will not issue any more new permits or new portions of permits for the provisions listed in the Table above after the effective date of this authorization. EPA will continue to implement and issue permits for HSWA requirements for which Minnesota is not yet authorized.

I. How does today's action affect Indian Country (18 U.S.C. 1151) in Minnesota?

Minnesota is not authorized to carry out its hazardous waste program in “Indian Country,” as defined in 18 U.S.C. 1151. Indian Country includes:

1. All lands within the exterior boundaries of Indian Reservations within or abutting the State of Minnesota, including:

a. Bois Forte Indian Reservation

b. Fond Du Lac Indian Reservation

c. Grand Portage Indian Reservation

d. Leech Lake Indian Reservation

e. Lower Sioux Indian Reservation

f. Mille Lacs Indian Reservation

g. Prairie Island Indian Reservation

h. Red Lake Indian Reservation

i. Shakopee Mdewankanton Indian Reservation

j. Upper Sioux Indian Reservation

k. White Earth Indian Reservation

2. Any land held in trust by the U.S. for an Indian tribe; and

3. Any other land, whether on or off an Indian reservation that qualifies as Indian Country.

Therefore, EPA retains the authority to implement and administer the RCRA program in Indian Country.

J. What is codification and is EPA codifying Minnesota's hazardous waste program as authorized in this rule?

Codification is the process of placing the State's statutes and regulations that comprise the State's authorized hazardous waste program into the Code of Federal Regulations. We do this by referencing the authorized State rules in 40 CFR part 272. Minnesota's rules, up to and including those revised June 7, 1991, as corrected August 19, 1991, have previously been codified through incorporation by reference effective February 4, 1992 (57 FR 4162) .

K. Statutory and Executive Order Reviews

This proposed rule only authorizes hazardous waste requirements pursuant to RCRA 3006 and imposes no requirements other than those imposed by State law (see SUPPLEMENTARY INFORMATION, Section A. Why are Revisions to State Programs Necessary?). Therefore this rule complies with applicable executive orders and statutory provisions as follows:

1. Executive Order 18266: Regulatory Planning Review

The Office of Management and Budget has exempted this rule from its review under Executive Order 12866 (58 FR 51735, October 4, 1993).

2. Paperwork Reduction Act

This rule does not impose an information collection burden under the provisions of the Paperwork Reduction Act of 1995 (44 U.S.C. 3501 et seq.).

3. Regulatory Flexibility Act

This rule authorizes State requirements for the purpose of RCRA 3006 and imposes no additional requirements beyond those required by State law. Accordingly, I certify that this rule will not have a significant economic impact on a substantial number of small entities under the Regulatory Flexibility Act (5 U.S.C. 601 et seq.).

4. Unfunded Mandates Reform Act

Because this rule approves pre-existing requirements under state law and does not impose any additional enforceable duty beyond that required by state law, it does not contain any unfunded mandate or significantly or uniquely affect small governments, as described in the Unfunded Mandates Reform Act of 1995 (Pub. L. 104-4).

5. Executive Order 13132: Federalism

Executive Order 13132 (64 FR 43255, August 10, 1999) does not apply to this rule because it will not have federalism implications (i.e., substantial direct effects on the States, on the relationship between the national government and the States, or on the distribution of power and responsibilities among the various levels of government).

6. Executive Order 13175: Consultation and Coordination With Indian Tribal Governments

Executive Order 13175 (65 FR 67249, November 9, 2000) does not apply to this rule because it will not have tribal implications (i.e., substantial direct effects on one or more Indian tribes, or on the relationship between the Federal Government and Indian tribes, or on the distribution of power and responsibilities between the Federal Government and Indian tribes.)

7. Executive Order 13045: Protection of Children From Environmental Health and Safety Risks

This rule is not subject to Executive Order 13045 (62 FR 19885, April 23, 1997), because it is not economically significant as defined in Executive Order 12866 and because the EPA does not have reason to believe the environmental health or safety risks addressed by this action present a disproportionate risk to children.

8. Executive Order 13211: Actions That Significantly Affect Energy Supply, Distribution, or Use

This rule is not subject to Executive Order 13211 (66 FR 28355, May 22, 2001), because it is not a significant regulatory action as defined in Executive Order 12866.

9. National Technology Transfer Advancement Act

EPA approves State programs as long as they meet criteria required by RCRA, so it would be inconsistent with applicable law for EPA, in its review of a State program, to require the use of any particular voluntary consensus standard in place of another standard that meets requirements of RCRA. Thus, the requirements of section 12(d) of the National Technology Transfer and Advancement Act of 1995 (15 U.S.C. 272 note) do not apply to this rule.

10. Executive Order 12988

As required by section 3 of Executive Order 12988 (61 FR 4729, February 7, 1996), in issuing this rule, EPA has taken the necessary steps to eliminate drafting errors and ambiguity, minimize potential litigation, and provide a clear legal standard for affected conduct.

11. Executive Order 12630: Evaluation of Risk and Avoidance of Unanticipated Takings

EPA has complied with Executive Order 12630 (53 FR 8859, March 18, 1988) by examining the takings implications of the rule in accordance with the Attorney General's Supplemental Guidelines for the Evaluation of Risk and Avoidance of Unanticipated Takings issued under the executive order.

12. Executive Order 12898: Federal Actions To Address Environmental Justice in Minority Populations and Low Income Populations

Because this rule proposes authorization of pre-existing State rules and imposes no additional requirements beyond those imposed by State law and there are no anticipated significant adverse human health or environmental effects, the rule is not subject to Executive Order 12898 (59 FR 7629, February 16, 1994).

13. Congressional Review Act

EPA will submit a report containing this rule and other information required by the Congressional Review Act (5 U.S.C. 801 et seq.) to the U.S. Senate, the U.S. House of Representatives, and the Comptroller General of the United States prior to publication in the Federal Register. A major rule cannot take effect until 60 days after it is published in the Federal Register. This action is not a “major rule” as defined by 5 U.S.C. 804(2).

List of Subjects in 40 CFR Part 271

Environmental protection, Administrative practice and procedure, Confidential business information, Hazardous materials transportation, Hazardous waste, Indians-lands, Intergovernmental relations, Penalties, Reporting and recordkeeping requirements.

Authority: This action is issued under the authority of sections 2002(a), 3006 and 7004(b) of the Solid Waste Disposal Act as amended, 42 U.S.C. 6912(a), 6926, 6974(b).

Dated: September 28, 2010.
Susan Hedman,
Regional Administrator, Region 5.

[FR Doc. 2011-749 Filed 1-13-11; 8:45 am]

BILLING CODE 6560-50-P